DEPARTMENT OF AGRICULTURE

Animal and Plant Health Inspection Service

[Docket No. 05-001-1]

Horse Protection; Public Meeting

AGENCY: Animal and Plant Health Inspection Service, USDA.

ACTION: Notice of public meeting.

SUMMARY: We are advising the public that the Animal and Plant Health Inspection Service's Animal Care program will host a meeting to present current information on the enforcement of the Horse Protection Act and provide a forum for listening to concerns from horse industry members and other interested persons about the Horse Protection Program. This notice provides the meeting's agenda, location, and date.

DATES: The meeting will be held from 2 p.m. to 5 p.m. on March 7, 2005. Registration information is provided in the SUPPLEMENTARY INFORMATION section of this notice.

ADDRESSES: The meeting will be held at the USDA Center at Riverside, 4700 River Road, Riverdale, MD.

FOR FURTHER INFORMATION CONTACT: Mr. Mike Tuck, Management Analyst, PPD, APHIS, 4700 River Road Unit 84, Riverdale, MD 20737; (301) 734-5819.

SUPPLEMENTARY INFORMATION: The Animal and Plant Health Inspection Service (APHIS), Animal Care, is announcing a meeting to discuss the enforcement of the Horse Protection Act. This meeting is designed to provide a forum for discussion on current initiatives by Animal Care. During the meeting, industry members and other interested parties will be given the opportunity to provide information and comments to Animal Care about the Horse Protection Program. At the time of registration, participants may sign up to speak and will be allotted a set amount of time.

The meeting will, with possible minor modifications, follow the agenda below:

1 p.m. to 2 p.m.—Registration

2 p.m. to 2:15 p.m.—Welcome and Overview

2:15 p.m. to 2:45 p.m.—Horse Protection Program Update

2:45 p.m. to 4:30 p.m.—Listening Session

4:30 p.m. to 5 p.m.—Remarks and Closing

Please note that this meeting is being held to provide for the exchange of information on the enforcement of the Horse Protection Act and is not an opportunity to submit formal comments on proposed rules or other regulatory initiatives. Written comments will be accepted and should be mailed to: USDA, APHIS, Animal Care, 4700 River Road Unit 84, Riverdale, MD 20737.

Registration

We request that you preregister for the meeting by calling (301) 734-7833 or e-mailing Animal Care at ACE@aphis.usda.gov. Please provide your name, number of attendees, telephone number, and e-mail address or other contact address and indicate whether or not you wish to speak at the meeting. This information is needed so we may inform registrants in a timely manner in the event of any changes to the meeting schedule. Please preregister for the meeting by March 1, 2005. On-site registration will take place from 1 p.m. to 2 p.m. on the date of the meeting.

Parking and Security Procedures

Please note that a fee of $2.25 is required to enter the parking lot at the USDA Center at Riverside. The machine accepts $1 bills or quarters. Picture identification is required to be admitted to the building. Upon entering the building, visitors should inform security personnel that they are attending the Horse Protection meeting.

Done in Washington, DC, this 18th day of January 2005.
Elizabeth E. Gaston,
Acting Administrator, Animal and Plant Health Inspection Service.

[FR Doc. 05-1312 Filed 1-24-05; 8:45 am]

BILLING CODE 3410-34-P